DEPARTMENT OF ENERGY

Federal Energy Regulatory Commission

[Docket No. OR22-7-000]

Phillips 66 Company v. MPLX Ozark Pipe Line LLC; Notice of Complaint

Take notice that on September 30, 2022, pursuant to section 13(1) of the Interstate Commerce Act, 49 U.S.C. app. 13(1), Rule 206 of the Federal Energy Regulatory Commission's (Commission) Rules of Practice and Procedure, 18 CFR 385.206, and the Commission's Procedural Rules Applicable to Oil Pipeline Proceedings, 18 CFR 343.1(a), Phillips 66 Company (Phillips 66) (Complainant) filed a formal complaint against MPLX Ozark Pipe Line LLC (MPLX Ozark) (Respondents), challenging the lawfulness of the uncommitted rates charged by MPLX Ozark Pipe Line LLC (“MPLX Ozark”) for transportation of crude petroleum from its origin in Cushing, Oklahoma to its destination in Wood River, Illinois on the pipeline owned by MPLX Ozark (“Ozark Pipeline”) from October 1, 2020 to September 30, 2022 and for all future periods.

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5 p.m. eastern time on October 31, 2022.

Dated: October 13, 2022.
Debbie-Anne A. Reese,
Deputy Secretary.

[FR Doc. 2022-22685 Filed 10-18-22; 8:45 am]

BILLING CODE 6717-01-P